FEDERAL RETIREMENT THRIFT INVESTMENT BOARD

Sunshine Act; Notice of Meeting

TIME AND DATE: 9 a.m. (Eastern Time), November 16, 2009.

PLACE: 4th Floor Conference Room, 1250 H Street, NW., Washington, DC 20005.

STATUS: Parts will be open to the public and parts closed to the public.

MATTERS TO BE CONSIDERED:

Parts Open to the Public

1. Approval of the minutes of the October 19, 2009 Board member meeting.

2. Thrift Savings Plan activity report by the Executive Director:

a. Monthly Participant Activity Report.

b. Monthly Investment Performance Report.

c. Legislative Report.

Parts Closed to the Public

3. Proprietary Information.

4. Personnel.

CONTACT PERSON FOR MORE INFORMATION: Thomas J. Trabucco, Director, Office of External Affairs, (202) 942-1640.

Dated: November 5, 2009.
Thomas K. Emswiler,
Secretary, Federal Retirement Thrift Investment Board.

[FR Doc. E9-27108 Filed 11-6-09; 11:15 am]

BILLING CODE 6760-01-P